DEPARTMENT OF COMMERCE

Foreign-Trade Zones Board

[B-05-2015]

Foreign-Trade Zone (FTZ) 41—Milwaukee, Wisconsin; Notification of Proposed Production Activity, CNH Industrial America, LLC, Subzone 41I (4-Wheel Drive Axle Subassemblies), Racine, Wisconsin

CNH Industrial America, LLC (CNH) submitted a notification of proposed production activity to the FTZ Board for its facilities within Subzone (SZ) 41I, in Racine, Wisconsin. The notification conforming to the requirements of the regulations of the FTZ Board (15 CFR 400.22) was received on January 20, 2015.

CNH already has authority to produce agricultural tractors and tractor components, cabs, transmissions, axles, valves and valve assemblies, gear boxes for combines, and final drives for combines within SZ 41I. The current request would add to the CNH facility's scope of authority the production of certain 4-wheel drive axle subassemblies: planetary carrier assemblies; non-driving planetary carrier assemblies; pinion assemblies with differentials; and, engine-powered wheel drive axle assemblies. Pursuant to 15 CFR 400.14(b), additional FTZ authority would be limited to the specific finished products described in the submitted notification (as described below) and subsequently authorized by the FTZ Board.

Production under FTZ procedures could exempt CNH from customs duty payments on the foreign-status materials/components in the existing scope of authority used in export production of the 4-wheel drive axle subassemblies. On its domestic sales, CNH would be able to choose the duty rates during customs entry procedures that apply to the 4-wheel drive axle subassemblies (duty rates: free or 2.5%) for the foreign-status materials/components in the existing scope of authority. Customs duties also could possibly be deferred or reduced on foreign-status production equipment.

Public comment is invited from interested parties. Submissions shall be addressed to the FTZ Board's Executive Secretary at the address below. The closing period for their receipt is March 16, 2015.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Diane Finver at Diane.Finver@trade.gov or (202) 482-1367.

Dated: January 29, 2015.
Andrew McGilvray,
Executive Secretary.

[FR Doc. 2015-02197 Filed 2-3-15; 8:45 am]

BILLING CODE 3510-DS-P